DEPARTMENT OF ENERGY

Federal Energy Regulatory Commission

Notice of Application Ready for Environmental Analysis and Soliciting Comments, Recommendations, Terms and Conditions, and Prescriptions

December 5, 2000.

Take notice that the following hydroelectric application has been filed with the Commission and is available for public inspection.

a. Type of Application: Major New License.

b. Project No.: 2055-010.

c. Date filed: November 24, 1998.

d. Applicant: Idaho Power Company.

e. Name of Project: C.J. Strike Hydroelectric Project.

f. Location: On the Snake River, in Owyhee County, Oregon, between the towns of Grandview and Bruneau. The project occupies about 3,000 acres of Federal land administered by the Bureau of Land Management.

g. Filed Pursuant to: Federal Power Act 16 U.S.C. 791 (a)-825(r).

h. Applicant Contact: Lewis Wardle, Hydro Relicensing Department, Idaho Power Company, P.O. Box 70, Boise, ID 83707 (208) 388-2964.

i. FERC Contact: John Blair, 202-219-2845, john.blair@ferc.fed.us.

j. Deadline for filing comments, recommendations, terms and conditions and prescriptions: 60 days from the issuance date of this notice.

All documents (original and eight copies) should be filed with: David P. Boergers, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions and prescriptions may be filed electronically via the internet in lieu of paper. See, 18 CFR 385.2001(a)(1)(iii) and the instructions on the Commission's web site at ­http://www.ferc.fed.us/efi/doorbell.htm.

k.This application has been accepted, and is ready for environmental analysis at this time.

l. The project consists of the following facilities: (1) A 3,220-foot-long earthfill dam with a maximum height of 115 feet, which includes a 340-foot-wide and 78-foot-high reinforced concrete spillway consisting of eight 34-foot-wide bays; (2) a 55-foot-wide, 158-foot-long and 65-foot-high reinforced concrete intake structure located at the left abutment of the dam, consisting of three intakes; (3) three riveted steel penstocks connecting the intakes to the generating units; (4) a 198-foot-long, 64-foot-wide, and 68-foot-high reinforced concrete powerhouse, located at the left abutment of the dam, containing 3 vertical fixed-blade turbines with a total nameplate capacity of 82.8 megawatts; (5) a reservoir extending about 32 miles upstream on the Snake River and about 12 miles upstream on the Bruneau River, with a surface area of 7,500 acres at normal water surface elevation of 2,455 feet above mean sea level; and (6) two 138-kilovolt (kV) transmission lines extending from the project 65 miles northwesterly to the Caldwell terminal substation and about 25 miles northeasterly to the 138 kV lines at Mountain Home.

m. A copy of the application is available for inspection and reproduction at the Commission's Public Reference Room, located at 888 First Street, NE, Room 2-A, Washington, DC 20426, or by calling (202) 208-1371. The application may be viewed on http://www.ferc.fed.us/online/rims.htm (call (202) 208-2222 for assistance). Copies are also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with Commission within 105 days from the date of this notice.

Anyone may obtain an extension of time for these deadlines from the Commission only upon a showing of good cause or extraordinary circumstances in accordance with 18 CFR 385.2008.

All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

David P. Boergers,
Secretary.

[FR Doc. 00-31419 Filed 12-8-00; 8:45 am]

BILLING CODE 6717-01-M